DEPARTMENT OF THE INTERIOR

National Park Service

Notice of Intent to Repatriate a Cultural Item: Institute for American Indian Studies, Washington, CT

AGENCY: National Park Service, Interior.

ACTION: Notice.

Notice is here given in accordance with the Native American Graves Protection and Repatriation Act (NAGPRA), 25 U.S.C. 3005, of the intent to repatriate a cultural item in the possession of the Institute for American Indian Studies, Washington, CT, that meets the definition of “cultural patrimony” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The one cultural item is a “Dakota Sioux” navel amulet. The amulet was collected by Bishop Frederick Foote Johnson of South Dakota (circa 1890-1900). In 1983, the amulet was donated to the Institute for American Indian Studies by Mr. and Mrs. Stanley King of Newtown, CT. The museum has no additional information on the circumstances under which either Mr. Johnson or the Kings came to possess this cultural item. Museum records identify it as “Dakota Sioux.” The leather amulet is in the shape of a lizard. It is covered on top with sinew-sewn beadwork in green, white, blues, and red. Red horsehair tassels with tin cones are sewn with cotton thread to the ends of the animal's legs, head, and tail. It is 5.5 inches long.

The Institute for American Indian Studies professional staff consulted with representatives of the Sisseton-Wahpeton Oyate of the Lake Traverse Reservation, South Dakota and Standing Rock Sioux Tribe of North & South Dakota. Tribal representatives confirmed the traditional cultural importance of the amulet to the Sioux tribal peoples and the determination that the amulet could not be alienated by a single individual because of its symbolic importance to the Dakota belief system. The Standing Rock Sioux have made a claim for the cultural item.

Officials of the Institute for American Indian Studies have determined that, pursuant to 25 U.S.C. 3001 (3)(C), the cultural item described above has ongoing historical, traditional, or cultural importance central to the Native American group or culture itself, rather than property owned by an individual. Officials of the Institute for American Indian Studies also have determined that, pursuant to 25 U.S.C. 3001 (2), there is a relationship of shared group identity that can be reasonably traced between the object of cultural patrimony and the Standing Rock Sioux Tribe of North & South Dakota.

Representatives of any other Indian tribe that believes itself to be culturally affiliated with the object of cultural patrimony should contact Dr. Lucianne Lavin, Director of Research and Collections, Institute for American Indian Studies, 38 Curtis Road, Washington, CT 06793, telephone (860) 868-0518, before August 28, 2006. Repatriation of the object of cultural patrimony to the Standing Rock Sioux Tribe of North & South Dakota may proceed after that date if no additional claimants come forward.

The Institute for American Indian Studies is responsible for notifying the Sisseton Wahpeton Oyate of the Lake Traverse Reservation, South Dakota and Standing Rock Sioux Tribe of North & South Dakota that this notice has been published.

Dated: June 9, 2006.
Sherry Hutt,
Manager, National NAGPRA Program.

[FR Doc. E6-12000 Filed 7-26-06; 8:45 am]

BILLING CODE 4312-50-S